DEPARTMENT OF LABOR

Employment and Training Administration

Agency Information Collection Activities; Comments Request for the Benefits Timeliness and Quality (BTQ) Review System

ACTION: Notice.

SUMMARY: The Department of Labor (DOL), Employment and Training Administration (ETA) is soliciting comments concerning a proposed extension for the authority to conduct the information collection request (ICR) titled, “Benefits Timeliness and Quality Review System.” This comment request is part of continuing Departmental efforts to reduce paperwork and respondent burden in accordance with the Paperwork Reduction Act of 1995 (PRA), 44 U.S.C. 3501 et seq.

DATES: Consideration will be given to all written comments received by November 7, 2016.

ADDRESSES: A copy of this ICR with applicable supporting documents; including a description of the likely respondents, proposed frequency of response, and estimated total burden may be obtained free by contacting Edward Medlin by telephone (202-693-3259) (this is not a toll-free number) or by email at medlin.edward@dol.gov.

Submit written comments about, or requests a copy of, this ICR by mail or courier to the U.S. Department of Labor, Employment and Training Administration, Room S-4524, 200 Constitution Avenue NW., Washington, DC 20210; or by email at medlin.edward@dol.gov; or by fax 202-693-3975.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The information for ETA 9057 has been revised to adjust the number of small and large states to reflect the most recent data. This category is dependent upon the number of decisions the states issued during the prior calendar year, and varies from year to year. The ETA 9054 Report has been revised to correct a typographical error in Section A. The 3rd time lapse category reads 45-60 (days), but should read 46-60 (days). In addition, the information for ETA 9056 has also been revised and updated to reflect the most recent data. Similar to ETA 9057, ETA 9056 is dependent on the number of nonmonetary determinations reported in the prior calendar year, and varies from year to year.

The Secretary of Labor, under the Social Security Act, Title III, Section 302 (42 U.S.C. 502), funds the necessary cost of proper and efficient administration of each state UI law. The BTQ program collects information and analyzes data. The BTQ data measure the timeliness and quality of states' administrative actions and administrative decisions related to UI benefit payments.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Benefits Timeliness and Quality Review System, OMB control number 1205-0359.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revision.

Title of Collection: Benefits Timeliness and Quality Review System.

Form(s): ETA-9050, ETA-9051, ETA-9052, ETA-9054, ETA-9055, ETA-9056, ETA-9057.

OMB Control Number: 1205-0359.

Affected Public: State Workforce Agencies.

Estimated Number of Respondents: 53 state agencies.

Frequency: Monthly and Quarterly.

Total Estimated Annual Responses: 29,196.

Estimated Average Time per Response: 80.5 minutes.

Estimated Total Annual Burden Hours: 38,132 hours.

Total Estimated Annual Other Cost Burden: $0.

Portia Wu,
Assistant Secretary for Employment and Training Administration.

[FR Doc. 2016-21319 Filed 9-2-16; 8:45 am]

BILLING CODE 4510-FW-P